ENVIRONMENTAL PROTECTION AGENCY

[EPA-HQ-OPP-2015-0021; FRL-9954-07]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before December 12, 2016.

ADDRESSES: Submit your comments, identified by docket identification (ID) number EPA-HQ-OPP-2015-0021 and the file symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael L. Goodis, Registration Division (7505P), and Robert McNally, Biopesticides and Pollution Prevention Division (7511P). The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

1. EPA Registration Number: 100-1374. Docket ID number: EPA-HQ-OPP-2016-0537. Applicant: Syngenta Crop Protection, LLC, P.O. Box 18300, Greensboro, NC 27419. Active ingredient: Sedaxane. Product type: Fungicide. Proposed use: Grain, cereal, group 15; Grain, cereal, forage, fodder and straw, group 16 and Peanut (seed treatment). Contact: RD.

2. EPA Registration Number: 100-1381. Docket ID number: EPA-HQ-OPP-2016-0537. Applicant: Syngenta Crop Protection, LLC, P.O. Box 18300, Greensboro, NC 27419. Active ingredient: Sedaxane. Product type: Fungicide. Proposed use: Grain, cereal, group 15; Grain, cereal, forage, fodder and straw, group 16 and Peanut (seed treatment). Contact: RD.

3. EPA Registration Numbers: 100-1571. Docket ID number: EPA-HQ-OPP-2016-0049. Applicant: Syngenta Crop Protection, LLC, P.O. Box 18300, Greensboro, NC 27419. Active ingredient: Oxathiapiprolin. Product type: Fungicide. Proposed use: Cacao. Contact: RD.

4. EPA Registration Numbers: 100-1572. Docket ID number: EPA-HQ-OPP-2016-0049. Applicant: Syngenta Crop Protection, LLC, P.O. Box 18300, Greensboro, NC 27419. Active ingredient: Oxathiapiprolin. Product type: Fungicide. Proposed use: Cacao. Contact: RD.

5. EPA Registration Number: 264-1077. Docket ID number: EPA-HQ-OPP-2016-0541. Applicant: Bayer CropScience LP, 2 T.W. Alexander Drive, P.O. Box 12014, Research Triangle Park, NC 27709. Active ingredient: Fluopyram. Product type: Fungicide. Proposed use: Seed treatment use on Corn (seed treatment); Sorghum (seed treatment); Tobacco; and Wheat (seed treatment). Contact: RD.

6. EPA Registration Number: 264-1078. Docket ID number: EPA-HQ-OPP-2016-0541. Applicant: Bayer CropScience LP, 2 T.W. Alexander Drive, P.O. Box 12014, Research Triangle Park, NC 27709. Active ingredient: Fluopyram. Product type: Fungicide. Proposed use: Tobacco. Contact: RD.

7. EPA Registration Number: 264-1137. Docket ID number: EPA-HQ-OPP-2016-0508. Applicant: Bayer CropScience, 2 T.W. Alexander Drive, Research Triangle Park, NC 27709. Active ingredient: Fluoxastrobin. Product type: Fungicide. Proposed Use: Rapeseed subgroup 20A (seed treatment). Contact: RD.

8. EPA Registration Number: 264-1167. Docket ID number: EPA-HQ-OPP-2016-0541. Applicant: Bayer CropScience LP, 2 T.W. Alexander Drive, P.O. Box 12014, Research Triangle Park, NC 27709. Active ingredient: Fluopyram. Product type: Fungicide. Proposed use: Corn, Sorghum and Wheat (seed treatment). Contact: RD.

9. EPA Registration Number: 264-1169. Docket ID number: EPA-HQ-OPP-2016-0508. Applicant: Bayer CropScience, 2 T.W. Alexander Drive, Research Triangle Park, NC 27709. Active ingredient: Fluoxastrobin. Product type: Fungicide. Proposed Use: Rapeseed subgroup 20A (seed treatment). Contact: RD.

10. EPA File Symbol: 279-GANR. Docket ID Number: EPA-HQ-OPP-2015-0787. Applicant: FMC 2929 Walnut St, Philadelphia, PA 19104. Active Ingredient: Pyroxasulfone. Product Type: Herbicide. Proposed Uses: Dried Shelled Beans and Peas (Crop Subgroup 6C), Flax, and Sunflower subgroup 20B. Contact: RD.

11. EPA Registration Number: 352-890. Docket ID number: EPA-HQ-OPP-2016-0049. Applicant: DuPont Crop Protection, P.O. Box 30, Newark, DE 19714. Active ingredient: Oxathiapiprolin. Product type: Fungicide. Proposed use: Cacao. Contact: RD.

12. EPA Registration Number: 63588-91. Docket ID Number: EPA-HQ-OPP-2015-0787. Applicant: K-I Chemical USA. Inc., 11 Martine Ave., Suite 970 White Plains, NY 10606. Active Ingredient: Pyroxasulfone. Product Type: Herbicide. Proposed Uses: Dried Shelled Beans and Peas (Crop Subgroup 6C), Flax, Peanut, Peanut Hay, and Sunflower subgroup 20B. Contact: RD.

13. EPA Registration Number: 63588-92. Docket ID Number: EPA-HQ-OPP-2015-0787. Applicant: K-I Chemical USA. Inc., 11 Martine Ave., Suite 970 White Plains, NY 10606. Active Ingredient: Pyroxasulfone. Product Type: Herbicide. Proposed Uses: Dried Shelled Beans and Peas (Crop Subgroup 6C), Flax, Peanut, Peanut Hay, and Sunflower subgroup 20B. Contact: RD.

14. EPA Registration Number: 70506-173. Docket ID number: EPA-HQ-OPP-2016-0536. Applicant: United Phosphorus, Inc. c/o Pyxis Regulatory Consulting, Inc., 4110 136th St. CT NW., Gig Harbor, WA 98332. Active ingredient: Ziram. Product type: Fungicide. Proposed use: Filbert (Hazelnut). Contact: RD.

15. EPA Registration Number: 70506-179. Docket ID number: EPA-HQ-OPP-2016-0536. Applicant: United Phosphorus, Inc. c/o Pyxis Regulatory Consulting, Inc., 4110 136th St. CT NW., Gig Harbor, WA 98332. Active ingredient: Ziram. Product type: Fungicide. Proposed use: Filbert (Hazelnut). Contact: RD.

16. EPA Registration Number: 71693-2. Docket ID number: EPA-HQ-OPP-2016-0567. Applicant: Arizona Cotton Research and Protection Council, 3721 E. Wier Ave., Phoenix, AZ 85040. Active ingredient: Aspergillus flavus strain AF36. Product type: Fungicide. Proposed use: Almond and Fig. Contact: BPPD.

Authority: 7 U.S.C. 136 et seq.

Dated: October 28, 2016.
Rachel C. Holloman,
Acting Director, Registration Division, Office of Pesticide Programs.

[FR Doc. 2016-27192 Filed 11-9-16; 8:45 am]

BILLING CODE 6560-50-P